DEPARTMENT OF COMMERCE

International Trade Administration

[A-427-602; A-428-602; A-475-601; A-588-704]

Brass Sheet and Strip From France, Germany, Italy, and Japan: Final Results of the Expedited Fourth Sunset Reviews of the Antidumping Duty Orders

AGENCY: Enforcement and Compliance, International Trade Administration, Department of Commerce.

SUMMARY: As a result of these sunset reviews, the Department of Commerce (the Department) finds that revocation of the antidumping duty (AD) orders on brass sheet and strip from France, Germany, Italy and Japan would likely lead to a continuation or recurrence of dumping. Further, the magnitude of the margins of dumping that are likely to prevail is identified in the “Final Results of Review” section of this notice.

DATES: Effective July 5, 2017.

FOR FURTHER INFORMATION CONTACT: Aimee Phelan, AD/CVD Operations, Office I, Enforcement and Compliance, International Trade Administration, U.S. Department of Commerce, 1401 Constitution Avenue NW., Washington, DC 20230; telephone: (202) 482-0697.

SUPPLEMENTARY INFORMATION:

Background

On March 6, 1987, the Department published the AD orders on brass sheet and strip from France and Italy.¹ On May 21, 1991, the Department published the amended AD order with respect to brass sheet and strip from Italy.² On January 9, 1987, the Department published the final determination of the less-than-fair value investigation with respect to brass sheet and strip from Germany and on September 23, 1987, the Department published the amended AD order with respect to imports of brass sheet and strip from Germany.³ On August 12, 1988, the Department issued an AD order on imports of brass sheet and strip from Japan.⁴ On March 3, 2017, the Department published the notice of initiation of the fourth sunset reviews of these AD orders on brass sheet and strip ⁵ from France, Germany, Italy, and Japan pursuant to section 751(c) of the Tariff Act of 1930, as amended (the Act).

¹ See Antidumping Duty Order: Brass Sheet and Strip from France, 52 FR 6995 (March 6, 1987); Antidumping Duty Order: Brass Sheet and Strip from Italy, 52 FR 6997 (March 6, 1987).

² See Amendment to Final Determination of Sales at Less Than Fair Value and Amendment of Antidumping Duty Order in Accordance with Decision Upon Remand: Brass Sheet and Strip from Italy, 56 FR 23272 (May 21, 1991).

³ See Final Determination of Sales at Less Than Fair Value; Brass Sheet and Strip from the Federal Republic of Germany, 52 FR 822 (January 9, 1987), amended at Final Determination of Sales at Less Than Fair Value and Amendment to Antidumping Duty Order: Brass Sheet and Strip from the Federal Republic of Germany, 52 FR 35750 (September 23, 1987).

⁴ See Antidumping Duty Order of Sales at Less Than Fair Value: Brass Sheet and Strip from Japan, 53 FR 30454 (August 12, 1988).

⁵ See Initiation of Five-Year (“Sunset”) Reviews, 82 FR 12438 (March 3, 2017) (Initiation).

On March 17, 2017, the Department received a notice of intent to participate on behalf of Aurubis Buffalo, Inc., GBC Metals, LLC (doing business as, Olin Brass), Heyco Metals, Inc., PMX Industries, Inc. and Revere Copper Products, Inc. (collectively, the domestic interested parties) within the 15-day period specified in 19 CFR 351.218(d)(1)(i). The domestic interested parties claimed interested party status under section 771(9)(C) of the Act, as manufacturers, producers, or wholesalers in the United States of a domestic like product.

On March 31, 2017, the Department received complete substantive responses to the Initiation from the domestic interested parties within the 30-day period, specified in 19 CFR 351.218(d)(3)(i).⁶ We received no substantive responses from respondent interested parties. As a result, pursuant to section 751(c)(3)(B) of the Act and 19 CFR 351.218(e)(1)(ii)(C)(2), the Department conducted expedited (120-day) sunset reviews of the AD orders on brass sheet and strip from France, Germany, Italy and Japan.

⁶ See Letters from domestic interested parties regarding “Brass Sheet and Strip From France—Domestic Interested Parties' Substantive Response to Notice of Initiation,” dated March 31, 2017; “Brass Sheet and Strip From Germany—Domestic Interested Parties' Substantive Response to Notice of Initiation,” dated March 31, 2017; “Brass Sheet and Strip From Italy—Domestic Interested Parties' Substantive Response to Notice of Initiation,” dated March 31, 2017; and “Brass Sheet and Strip From Japan—Domestic Interested Parties' Substantive Response to Notice of Initiation,” dated March 31, 2017.

Scope of the Orders

The product covered by the orders is brass sheet and strip, other than leaded and tinned brass sheet and strip, from France, Germany, Italy, and Japan. The chemical composition of the covered product is currently defined in the Copper Development Association (“C.D.A.”) 200 Series or the Unified Numbering System (“U.N.S.”) C2000. The orders do not cover products the chemical compositions of which are defined by other C.D.A. or U.N.S. series. In physical dimensions, the product covered by the orders has a solid rectangular cross section over 0.006 inches (0.15 millimeters) through 0.188 inches (4.8 millimeters) in finished thickness or gauge, regardless of width. Coiled, wound-on-reels (traverse wound), and cut-to-length products are included. The merchandise is currently classified under Harmonized Tariff Schedule of the United States (“HTSUS”) item numbers 7409.21.00 and 7409.29.00.

Although the HTSUS item numbers are provided for convenience and customs purposes, the written description of the scope of the orders remains dispositive.

Analysis of Comments Received

All issues raised in these sunset reviews, including the likelihood of continuation or recurrence of dumping and the magnitude of the margins of dumping likely to prevail if the orders are revoked, are addressed in the Issues and Decision Memorandum.⁷ The Issues and Decision Memorandum is a public document and is on file electronically via Enforcement and Compliance's Antidumping and Countervailing Duty Centralized Electronic Service System (ACCESS). ACCESS is available to registered users at http://access.trade.gov, and to all parties in the Central Records Unit, Room B8024 of the main Department of Commerce building. In addition, a complete version of the Issues and Decision Memorandum can be accessed directly on the Internet at http://enforcement.trade.gov/frn.

⁷ See Memorandum from Deputy Assistant Secretary Gary Taverman to Acting Assistant Secretary Ronald K. Lorentzen entitled, “Issues and Decision Memorandum for the Final Results of the Expedited Fourth Sunset Review of the Antidumping Duty Order on Brass Sheet and Strip from France (A-427-602), Germany (A-428-602), Italy (A-475-601), and Japan (A-588-704)” dated concurrently with, and hereby adopted by this notice (Issues and Decision Memorandum).

Final Results of Sunset Reviews

Pursuant to sections 751(c)(1) and 752(c)(1) and (3) of the Act, the Department determines that revocation of the AD orders on brass sheet and strip from France, Germany, Italy, and Japan would be likely to lead to continuation or recurrence of dumping, and that the magnitude of the margins of dumping likely to prevail if the AD orders are revoked would be up to 42.24 percent, 55.60 percent, 22.00 percent, and 57.98 percent, respectively.

Notification Regarding Administrative Protective Order

This notice serves as the only reminder to the parties subject to administrative protective order (APO) of their responsibility concerning the return or destruction of propriety information disclosed under APO in accordance with 19 CFR 351.305. Timely written notification of the return or destruction of APO materials or conversion to judicial protective order is hereby requested. Failure to comply with the regulations and terms of an APO is a violation subject to sanction.

Notification to Interested Parties

We are issuing and publishing the final results and notice in accordance with sections 751(c), 752(c), and 777(i)(1) of the Act and 19 CFR 351.221(c)(5)(ii).

Dated: June 28, 2017.
Ronald K. Lorentzen,
Acting Assistant Secretary For Enforcement and Compliance.

[FR Doc. 2017-14055 Filed 7-3-17; 8:45 am]

BILLING CODE 3510-DS-P